DEPARTMENT OF TRANSPORTATION

National Highway Traffic Safety Administration

[Docket No. NHTSA-2010-0053]

Visual-Manual NHTSA Driver Distraction Guidelines for In-Vehicle Electronic Devices

AGENCY: National Highway Traffic Safety Administration (NHTSA), Department of Transportation (DOT).

ACTION: Proposed Federal guidelines; extension of comment period.

SUMMARY: On February 24, 2012, NHTSA published proposed voluntary NHTSA Driver Distraction Guidelines for in-vehicle electronic devices. The agency provided a 60-day comment period. We received a petition from the Alliance of Automobile Manufacturers requesting an extension of the comment period. The petitioner argued that additional time was needed to review information that was not placed in the docket when the proposed NHTSA Guidelines were published. After considering the petition, we are extending the comment period by 24 days, from April 24, 2012, to May 18, 2012.

DATES: The comment period for the proposed NHTSA Guidelines published February 24, 2012, at 77 FR 11200, is extended. You should submit your comments early enough to ensure that the docket receives them not later than May 18, 2012.

ADDRESSES: You may submit comments to the docket number identified in the heading of this document by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, between 9 a.m. and 5 p.m. ET, Monday through Friday, except Federal holidays.

• Fax: 202-493-2251.

Instructions: For detailed instructions on submitting comments, see the Public Participation heading of the Supplementary Information section of this document. Note that all comments received will be posted without change to http://www.regulations.gov, including any personal information provided. Please see the “Privacy Act” heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Confidential Business Information: If you wish to submit any information under a claim of confidentiality, you should submit three copies of your complete submission, including the information you claim to be confidential business information, to the Chief Counsel, National Highway Traffic Safety Administration, 1200 New Jersey Avenue SE., West Building 4th Floor, Room W41-318, Washington, DC 20590. In addition, you should submit two copies, from which you have deleted the claimed confidential business information, to Docket Management at the address given above. When you send a comment containing information claimed to be confidential business information, you should include a cover letter setting forth the information specified in our confidential business information regulation (49 CFR Part 512).

Docket: For access to the Docket to read background documents or comments received, go to http://www.regulations.gov or the street address listed above. Follow the online instructions for accessing the Docket.

FOR FURTHER INFORMATION CONTACT: For technical issues, you may contact Dr. W. Riley Garrott, Vehicle Research and Test Center, telephone: (937) 666-3312, facsimile: (937) 666-3590. You may send mail to this person at: The National Highway Traffic Safety Administration, Vehicle Research and Test Center, P.O. Box B-37, East Liberty, OH 43319.

SUPPLEMENTARY INFORMATION: On February 24, 2012, NHTSA published in the Federal Register a notice proposing voluntary NHTSA Driver Distraction Guidelines for in-vehicle electronic devices (77 FR 11200). The proposed NHTSA Guidelines are meant to promote safety by discouraging the introduction of excessively distracting devices in vehicles. These NHTSA Guidelines, which are voluntary, apply to communications, entertainment, information gathering, and navigation devices or functions that are not required to operate the vehicle safely and that are operated by the driver through visual-manual means (meaning the driver looking at a device, manipulating a device-related control with the driver's hand, and watching for visual feedback). We provided a 60-day comment period.

In a petition dated March 9, 2012,¹ the Alliance of Automobile Manufacturers (Alliance) requested that certain information, including several research reports referenced in the notice, be placed in the docket. The Alliance also requested that a public workshop be held to provide an opportunity for all interested parties to gain a better understanding of the technical details supporting the proposed Guidelines and to share advanced technical information in an effective manner in order to help the agency as it reviews comments and works to finalize the Guidelines. The Alliance requested an extension of the comment period by at least an additional 60 days from the date that all the supporting research and data were submitted into the public docket or from the date of any technical workshop, whichever was later.

¹ Alliance Petition, Docket No. NHTSA-2010-0053-0015.

On March 23, 2012, NHTSA held a public workshop at its Vehicle Research and Test Center in East Liberty, Ohio, to provide interested parties with an opportunity to discuss issues relevant to the technical aspects of the proposed NHTSA Guidelines. The workshop included brief NHTSA presentations outlining the content and basis of the proposed Guidelines and presentations from attendees. The presentations and written comments from the workshop were placed in the docket on April 9, 2012.² The four research reports cited in the proposed Guidelines but not initially included in the docket are expected to be available in the docket in late April or early May 2012.³

² Docket No. NHTSA-2010-0053-0045. Additional information regarding the classification of the police-reported crash data in Table 1 of the February 24, 2012 notice was also placed in the Docket on April 9, 2012. Docket No. NHTSA-2010-0053-0046.

³ The titles of the four reports are: An Examination of the Definition of “Task” and Use of “Tax Taxonomies” Based on Interviews with Experts; Summary of Radio Tuning Effects on Visual and Driving Performance Measures—Simulator and Test Track Studies; Driver Eye Glance Behavior During Visual-Manual Secondary Task Performance: Occlusion Method Versus Simulated Driving; and Explanatory Material about the Definition of a Task Used in NHTSA's Driver Distraction Guidelines, and Task Examples.

After considering the petition from the Alliance, we have decided to extend the comment period by 24 days. We wish to facilitate the efforts of the petitioner and other interested persons to provide complete comments. We believe that a 24-day extension will ensure that interested persons have sufficient time to analyze the relevant research reports and information presented at the technical workshop. The workshop was held on March 23, and the presentations and written comments from the workshop were placed in the docket on April 9. With the extension considered, all interested persons will have had approximately six weeks to review the information presented at the workshop before the end of the comment period. Additionally, all four reports referenced in the proposed Guidelines and noted in the Alliance's petition are expected to be available in the docket in late April or early May 2012. Given the agency's schedule for placing these reports in the docket, we expect that all interested persons will, with the extension considered, have had approximately one and a half to three and a half weeks to review these reports before the end of the comment period. This range of time reflects the fact that the reports will be individually placed in the docket as they are finalized so that interested persons can have access to them as soon as possible. Additionally, to the extent possible, we will consider comments that Docket Management receives after the close of the comment period.

The Alliance did not provide any detailed information showing why a longer extension, such as its suggestion of 60 days from the docketing of the research reports or date of the public workshop, would be necessary.

Public Participation

How do I prepare and submit comments?

Your comments must be written and in English. To ensure that your comments are correctly filed in the docket, please include the docket number of this document in your comments.

Your comments must not be more than 15 pages long. (49 CFR 553.21). We established this limit to encourage you to write your primary comments in a concise fashion. However, you may attach necessary additional documents to your comments. There is no limit on the length of the attachments.

Comments may be submitted to the docket electronically by logging onto the docket Management System Web site at http://www.regulations.gov. Follow the online instructions for submitting comments.

You may also submit two copies of your comments, including the attachments, to docket Management at the address given above under ADDRESSES.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html. DOT's guidelines may be accessed at http://www.bts.gov/programs/statistical_policy_and_research/data_quality_guidelines/.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, National Highway Traffic Safety Administration, 1200 New Jersey Avenue SE., West Building 4th Floor, Room W41-318, Washington, DC 20590. In addition, you should submit two copies, from which you have deleted the claimed confidential business information, to Docket Management at the address given above under ADDRESSES. When you send a comment containing information claimed to be confidential business information, you should include a cover letter setting forth the information specified in our confidential business information regulation. (49 CFR Part 512.)

Will the agency consider late comments?

We will consider all comments that Docket Management receives before the close of business on the comment closing date indicated above under DATES. To the extent possible, we will also consider comments that Docket Management receives after that date.

How can I read the comments submitted by other people?

You may read the comments received by Docket Management at the address given above under ADDRESSES. The hours of the docket are indicated above in the same location. You may also see the comments on the Internet. To read the comments on the Internet, go to http://www.regulations.gov. Follow the online instructions for accessing the docket.

Please note that even after the comment closing date, we will continue to file relevant information in the docket as it becomes available. Further, some people may submit late comments. Accordingly, we recommend that you periodically check the docket for new material.

Issued on: April 19, 2012.
John Maddox,
Associate Administrator for Vehicle Safety Research.

[FR Doc. 2012-9953 Filed 4-20-12; 4:15 pm]

BILLING CODE 4910-59-P